DEPARTMENT OF TRANSPORTATION

Federal Aviation Administration

14 CFR Part 39

[Docket No. 2000-NM-214-AD; Amendment 39-12064; AD 2000-26-14]

RIN 2120-AA64

Airworthiness Directives; Airbus Model A310 Series Airplanes

AGENCY: Federal Aviation Administration, DOT.

ACTION: Final rule.

SUMMARY: This amendment adopts a new airworthiness directive (AD), applicable to all Airbus Model A310 series airplanes, that requires repetitive detailed visual inspections to detect cracks propagating from the fastener holes that attach the left-and right-hand pick-up angles at frame 40 to the wing lower skin and fuselage panel, and corrective actions, if necessary. The actions specified by this AD are intended to prevent reduced structural integrity of the airplane due to fatigue damage and consequent cracking of the pick-up angles at frame 40. This action is intended to address the identified unsafe condition.

DATES: Effective February 9, 2001.

The incorporation by reference of certain publications listed in the regulations is approved by the Director of the Federal Register as of February 9, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all Airbus Model A310 series airplanes was published in the Federal Register on October 25, 2000 (65 FR 63817). That action proposed to require repetitive detailed visual inspections to detect cracks propagating from the fastener holes that attach the left- and right-hand pick-up angles at frame 40 to the wing lower skin and fuselage panel, and corrective actions, if necessary.

Comments

Interested persons have been afforded an opportunity to participate in the making of this amendment. No comments were submitted in response to the proposal or the FAA's determination of the cost to the public.

Conclusion

The FAA has determined that air safety and the public interest require the adoption of the rule as proposed.

Cost Impact

The FAA estimates that 47 airplanes of U.S. registry will be affected by this AD, that it will take approximately 2 work hours per airplane to accomplish the required inspection, and that the average labor rate is $60 per work hour. Based on these figures, the cost impact of this AD on U.S. operators is estimated to be $5,640, or $120 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-26-14 Airbus Industrie: Amendment 39-12064. Docket 2000-NM-214-AD.

Applicability: All Model A310 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To prevent reduced structural integrity of the airplane due to fatigue damage and consequent cracking of the pick-up angles at frame 40, accomplish the following:

Inspections and Corrective Actions

(a) Perform a detailed visual inspection to detect cracks propagating from the fastener holes that attach the left- and right-hand pick-up angles at frame 40 to the wing lower skin and fuselage panel, at the time specified in paragraph (b), (c), (d), (e) or (f) of this AD, as applicable. Perform the actions in accordance with Figure 2, Sheet 1, “Synoptic Chart,” of Airbus Service Bulletin A310-53A2111, Revision 01, dated June 21, 2000.

(1) If no cracking is found during the inspection required by paragraph (a) of this AD, repeat the detailed visual inspection thereafter at the interval specified in paragraph (a)(1)(i) or (a)(1)(ii) of this AD, as applicable.

(i) For Model A310-200 series airplanes: Except as provided by paragraph (d) of this AD, repeat the inspection thereafter at intervals not to exceed 1,000 flight cycles or 2,600 flight hours, whichever occurs first.

(ii) For Model A310-300 series airplanes: Except as provided by paragraph (d) of this AD, repeat the inspection thereafter at intervals not to exceed 850 flight cycles or 2,800 flight hours, whichever occurs first.

(2) If any cracking is found during the inspection required by paragraph (a) of this AD, prior to further flight, perform applicable corrective actions [including repair (drilling and reaming a crack stop hole in the pick-up angle, performing a Rototest inspection and repetitive detailed visual inspections at the time specified in the service bulletin, and replacing the pick-up angle with a new angle at the time specified in the service bulletin); or immediate replacement of any cracked angle with a new angle]. Perform the actions and repetitive inspections in accordance with Figure 2, Sheet 1, “Synoptic Chart,” of Airbus Service Bulletin A310-53A2111, Revision 01, dated June 21, 2000.

Note 2: Accomplishment of the actions required by paragraph (a) of this AD in accordance with Airbus Service Bulletin A310-53A2111, dated April 21, 2000, is considered to be acceptable for compliance with the requirements of that paragraph.

Compliance Times

(b) For Model A310-200 series airplanes: Except as provided by paragraphs (d), (e), and (f) of this AD, perform the initial inspection at the later of the times specified in paragraphs (b)(1) and (b)(2) of this AD.

(1) Prior to the accumulation of 7,900 total flight cycles or 23,600 total flight hours, whichever occurs first.

(2) Within 700 flight cycles or 1,200 flight hours after the effective date of this AD, whichever occurs first.

(c) For Model A310-300 series airplanes: Except as provided by paragraphs (d), (e), and (f) of this AD, perform the initial inspection required by paragraph (a) of this AD at the later of the times specified in paragraphs (c)(1) and (c)(2) of this AD.

(1) Prior to the accumulation of 6,700 total flight cycles or 24,700 total flight hours, whichever occurs first.

(2) Within 700 flight cycles or 1,200 flight hours after the effective date of this AD, whichever occurs first.

(d) For airplanes that have accumulated more than 18,000 total flight cycles or 53,000 total flight hours as of the effective date of this AD: Perform the initial inspection required by paragraph (a) of this AD within 350 flight cycles or 600 flight hours after the effective date of this AD, whichever occurs first. Repeat the inspection thereafter at intervals not to exceed 350 flight cycles or 600 flight hours, whichever occurs first.

(e) For airplanes having manufacturer's serial number 0162 through 0326 inclusive, on which Airbus Service Bulletin A310-53-2014 has been accomplished prior to the effective date of this AD: The initial inspection threshold may be counted from the date of accomplishment of Airbus Service Bulletin A310-53-2014.

(f) For airplanes on which a pick-up angle has been replaced: For that pick-up angle only, the initial inspection threshold may be counted from the date of installation of the new pick-up angle.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Alternative Methods of Compliance

(g) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(h) Special flight permits may be issued in accordance with sections 21.197 and 21.199 of the Federal Aviation Regulations (14 CFR 21.197 and 21.199) to operate the airplane to a location where the requirements of this AD can be accomplished.

Incorporation by Reference

(i) The actions shall be done in accordance with Airbus Service Bulletin A310-53A2111, Revision 01, including Appendix 1, dated June 21, 2000. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 2000-209-310(B), dated June 14, 2000.

Effective Date

(j) This amendment becomes effective on February 9, 2001.

Issued in Renton, Washington, on December 22, 2000.
John J. Hickey,
Manager, Transport Airplane Directorate, Aircraft Certification Service.

[FR Doc. 01-28 Filed 1-4-01; 8:45 am]

BILLING CODE 4910-13-U